DEPARTMENT OF AGRICULTURE

Rural Housing Service

7 CFR Part 3550

Direct Single Family Housing Loans and Grants

CFR Correction

In Title 7 of the Code of Federal Regulations, Part 2000 to End, revised as of January 1, 2015, on page 406, in § 3550.150, remove the third sentence.

[FR Doc. 2015-33043 Filed 12-30-15; 8:45 am]

BILLING CODE 1505-01-D